DEPARTMENT OF STATE

[Public Notice 3635]

Bureau of Consular Affairs; Notice of Information Collection Under Emergency Review: Report of Death of an American Citizen Abroad (OMB# 1405-0048)

ACTION: Notice.

SUMMARY: The Department of State has submitted the following information collection request to the Office of Management and Budget (OMB) for approval in accordance with the Paperwork Reduction Act of 1995. Comments should be submitted to OMB within 30 days of the publication of this notice.

The following summarizes the information collection proposal submitted to OMB:

Type of Request: Reinstatement.

Originating Office: CA/OCS/PRI.

Title of Information Collection: Report of Death of an American Citizen Abroad.

Frequency: On occasion.

Form Number: OF-180.

Respondents: Individuals—U.S. Consular Staff.

Estimated Number of Respondents: 6,000 per year.

Average Hours Per Response: 2.

Total Estimated Burden: 6,000.

The proposed information collection is published to obtain comments from the public and affected agencies. Emergency review and approval of this collection has been requested from OMB by April 14, 2001. If granted, the emergency approval is only valid for 180 days. Comments should be directed to the State Department Desk Officer, Office of Information and Regulatory Affairs, Office of Management and Budget (OMB), Washington, DC 20530, (202) 395-3897.

During the first 60 days of this same period a regular review of this information collection is also being undertaken. Comments are encouraged and will be accepted until 60 days from the date that this notice is published in the Federal Register. The agency requests written comments and suggestions from the public and affected agencies concerning the proposed collection of information. Your comments are being solicited to permit the agency to:

• Evaluate whether the proposed collection of information is necessary for the proper performance of the functions of the agency, including whether the information will have practical utility.

• Evaluate the accuracy of the agency's estimate of the burden of the proposed collection, including the validity of the methodology and assumptions used.

• Enhance the quality, utility, and clarity of the information to be collected.

• Minimize the reporting burden on those who are to respond, including through the use of automated collection techniques or other forms of technology.

FOR FURTHER INFORMATION CONTACT: Public comments, or requests for additional information, regarding the collection listed in this notice should be directed to Monica Gaw, CA/OCS/PRI, Room 4811, U.S. Department of State, Washington, DC 20520. She may be reached on 202-647-3683.

Dated: March 28, 2001.
Frank Moss,
Executive Director, Bureau of Consular Affairs, Department of State.

[FR Doc. 01-8810 Filed 4-9-01; 8:45 am]

BILLING CODE 4710-06-U